DEPARTMENT OF THE INTERIOR

Bureau of Indian Affairs

Ho-Chunk Nation Alcohol Beverage Control Ordinance

AGENCY: Bureau of Indian Affairs, Interior.

ACTION: Notice.

SUMMARY: This notice publishes the Ho-Chunk Nation Alcohol Beverage Control Ordinance. The Ordinance regulates the control, possession, and sale of liquor on the Ho-Chunk Nation trust lands, to be in conformity with the laws of the State of Wisconsin, where applicable and necessary. Although the Ordinance was adopted on August 6, 2002, it does not become effective until published in the Federal Register because the failure to comply with the ordinance may result in criminal charges.

EFFECTIVE DATE: This Ordinance is effective on January 29, 2003.

FOR FURTHER INFORMATION CONTACT: Iris Drew, Office of Tribal Services, 1951 Constitution Avenue NW., MS 320-SIB, Washington, DC 20245; Telephone (202) 513-7628.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of the adopted liquor ordinances for the purpose of regulating liquor transaction in Indian country. The Ho-Chunk Nation Alcohol Beverage Control Ordinance, Resolution No. 8-6-02 F, was duly adopted by the Ho-Chunk Nation Legislature on August 6, 2002. The Ho-Chunk Nation, in furtherance of its economic and social goals, has taken positive steps to regulate retail sales of alcohol and use revenues to combat alcohol abuse and its debilitating effect among individuals and family members within the Ho-Chunk Nation.

This notice is published in accordance with the authority delegated by the Secretary of the Interior to the Assistant Secretary—Indian Affairs by 209 Departmental Manual 8.1.

I certify that by Resolution No. 8-6-02 F, the Ho-Chunk Nation Alcohol Beverage Control Ordinance was duly adopted by the Ho-Chunk Nation Legislature on August 6, 2002.

Dated: January 17, 2003.
Aurene M. Martin,
Assistant Secretary—Indian Affairs.

The Ho-Chunk Nation Alcohol Beverage Control Ordinance, Resolution No. 8-6-02 F, reads as follows:

Ho-Chunk Nation Code (HCC)

Title 5—Business and Finance Code

Section 4—Alcohol Beverage Control Ordinance Enacted by Legislature: August 6, 2002

This Ordinance supersedes the Liquor Control Ordinance enacted by the Wisconsin Winnebago Business Committee Resolution 6/25/93D.

1. Authority.

a. Article V, Section 2(a) of the Constitution grants the Legislature the power to make laws, including codes, ordinances, resolutions, and statutes.

b. Article V, Section 2(h) of the Constitution grants the Legislature the power to enact all laws prohibiting and regulating conduct and imposing penalties upon all persons within the jurisdiction of the Nation.

c. Article V, Section 2(s) of the Constitution grants the Legislature the power to promote public health, education, charity, and such other services as may contribute to the social advancement of the members of the Ho-Chunk Nation.

d. Article V, Section 2(t) of the Constitution grants the Legislature the power to enact laws governing law enforcement on lands within the jurisdiction of the Nation.

2. Purpose. This Ordinance provides for the uniform regulation of the sale of intoxicating liquor, wine, and beer within the Ho-Chunk Nation on lands under the jurisdiction of the Nation.

3. Policy.

a. The sale, possession, and consumption of alcohol beverages on the Nation's lands will be strictly regulated in accordance with the provisions of this Ordinance and applicable sections of Chapter 125, Wisconsin Statutes.

b. No person under the age of 21 years shall purchase or have in his or her possession alcoholic beverages on Ho-Chunk land.

4. Definitions. Terms used in this Ordinance have the following meaning:

a. Beer. A fermented malt beverage made by alcohol fermentation of barley malt and hops containing 0.5% or more of alcohol by volume.

b. Department. The Ho-Chunk Nation Department of Business.

c. Intoxicating Beverage. Any intoxicating liquor, wine, or beer.

d. Intoxicating Liquor. All ardent, spirituous, distilled or vinous liquors, which are beverages and contain 0.5% or more of alcohol by volume.

e. Wine. Products and beverages obtained from the normal fermentation of the juice or must of grapes, other fruits, or other agricultural products, if such product or beverage contains 0.5% or more of alcohol by volume.

3. Application for License.

a. An application for a license to sell intoxicating beverages shall be submitted to the Nation's Department of Business. The application shall contain the following information:

(1) The name(s) of the individual and organization applying for the license;

(2) the address and telephone numbers of the applicant(s);

(3) the location, to include building and/or address, where the applicant will sell the intoxication beverages; and

(4) a copy of the local municipality (town, village, or city) license to sell intoxicating beverages.

b. The Department may reject any application for a license under this Ordinance if applicant has previously committed acts that would be in violation of this Ordinance or if an applicant has had a license revoked.

c. Application Fee. A non-refundable initial application fee will be established by the Department of Business and must be submitted with the initial application for license.

4. Issuance of License.

a. The Department of Business shall issue a license for the sale of intoxicating beverages if, on the basis of the information provided in the application or on additional information relevant by the Department, such issuance is in the interest of the Nation.

b. Licenses shall contain the following requirements.

(1) Each license shall require its holder to conform to the laws of the State of Wisconsin that relate to the sale or possession of intoxicating beverages.

(2) License Fee.

(a) The initial license fee shall be established and charged by the Department of Business.

(b) The annual license renewal fee shall be established and charged by the Department of Business.

(3) No license shall be effective for a term of more than one (1) year from the date of issuance. Each annual renewal shall be subject to the same requirements that apply to the initial issuance of a license.

(4) Each license shall explicitly state that its continued validity is dependent upon the compliance of its holder with all the provisions of this Ordinance and of the laws of the State of Wisconsin that relate to the sale and/or possession of intoxicating beverages.

5. Suspension or Revocation of License. The Department shall have the authority to suspend or revoke any license issued under this Ordinance.

a. Upon finding or receiving information that a holder of a license has violated the terms of the license or applicable law, the Department shall provide the license holder written notice that the Department intends to suspend or revoke the holder's license. The notice shall specify the grounds for the proposed suspension or revocation. Such notice shall be sent by certified mail, return receipt requested.

b. Hearing. A license holder upon receipt of the notice to suspend or revoke may, within seven (7) calendar days of receipt, submit a written request for a hearing to the Executive Director of the Department of Business.

(1) The President shall convene a Commission consisting of the Executive Director of Business and two (2) other non-interested Executive Directors to hear the license holder's case for not suspending or revoking his or her license. Such hearing will be held within thirty (30) days of receipt by the Department of Business of the request for a hearing.

(2) The license holder shall be permitted to present evidence to the Commission with respect to her or his compliance with this Ordinance and other applicable law.

(3) The Commission shall make a decision considering such evidence it deems relevant. The decision to suspend/revoke the license or dismiss the complaint shall be issued within three (3) days following the hearing.

(4) A decision to either suspend or revoke the holder's license shall take effect immediately at the close of the business day of the decision.

(5) The decision by the Commission shall be final.

6. Approval. This Ordinance shall be effective upon certification by the Assistant Secretary—Indian Affairs, Department of the Interior, and publication in the Federal Register.

[FR Doc. 03-2083 Filed 1-28-03; 8:45 am]

BILLING CODE 4310-4J-P